DEPARTMENT OF ENERGY

Federal Energy Regulatory Commission

[Docket No. CP98-131-005]

Vector Pipeline L.P.; Notice of Proposed Amendment to Presidential Permit

December 24, 2002.

Take notice that on November 22, 2002, Vector Pipeline L.P. (Vector), filed an application to amend the Presidential Permit issued to Vector in the Commission's May 27, 1999 order in the captioned proceeding, as amended in an order issued June 13, 2001. Vector states that the proposed amendment would add to the extant authority to transport gas between the United States and Canada by increasing the maximum capacity permitted to flow through the existing facilities to 1,330 MMcf/d. No additional facilities would be constructed to implement this requested change. This filing is available for review at the Commission or may be viewed on the Commission's Web site at http://www.ferc.gov using the “FERRIS” link. Enter the docket number excluding the last three digits in the docket number field to access the document. For assistance, please contact FERC Online Support at FERCOnlineSupport@ferc.gov or toll-free at (866)208-3676, or for TTY, contact (202)502-8659.

Any person desiring to be heard or to protest this filing should on or before the comment date stated below file a motion to intervene or protest with the Federal Energy Regulatory Commission, Washington, DC 20426, in accordance with 385.214 and 385.211 of the Commission's Rules and Regulations. Protests will be considered by the Commission in determining the appropriate action to be taken, but will not serve to make protestants parties to the proceeding. Any person wishing to become a party must file a motion to intervene. Protests and interventions may be filed electronically via the Internet in lieu of paper; see 385.2001(a)(1)(iii) and the instructions on the Commission's Web site under the “e-Filing” link. The Commission strongly encourages electronic filings.

Comment Date: January 13, 2003.

Linwood A. Watson, Jr.,
Deputy Secretary.

[FR Doc. 02-32965 Filed 12-27-02; 8:45 am]

BILLING CODE 6717-01-P